DEPARTMENT OF TRANSPORTATION

Federal Highway Administration

Notice of Intent To Prepare a Draft Environmental Impact Statement for the Last Chance Grade Permanent Restoration Project on Interstate 101, in Del Norte County, California

AGENCY: Federal Highway Administration (FHWA), U.S. Department of Transportation (DOT).

ACTION: Notice of intent (NOI) to prepare a Draft Environmental Impact Statement (Draft EIS) for the Last Chance Grade Restoration Project on Interstate 101 (I-101).

SUMMARY: The FHWA, on behalf of the California Department of Transportation (Caltrans), is issuing this notice to advise the public that a Draft EIS will be prepared for the Last Chance Grade Permanent Restoration Project (Project), a proposed roadway improvement project on I-101, in Del Norte County, California. A separate Notice of Preparation of the Draft Environmental Impact Report (Draft EIR) has been issued by Caltrans to meet the requirements of the California Environmental Quality Act (CEQA).

DATES: This notice will be accompanied by a 30-day public scoping comment period from November 5, 2021 to December 6, 2021. The deadline for public comments is 5:00 p.m. (PST) on December 6, 2021. The Virtual scoping meeting will be held from 6:00 p.m. to 7:30 p.m. PST on Thursday, November 18, 2021.

ADDRESSES: Project information is available on the internet at lastchancegrade.com.

FOR FURTHER INFORMATION CONTACT: For Caltrans: Contact Steve Croteau, Senior Environmental Planner, Caltrans District 1, 1656 Union Street, Eureka, CA 95501, telephone 707-572-7149, or email ScopingComments@lastchancegrade.com.

For FHWA, contact David Tedrick, telephone (916) 498-5024, or email david.tedrick@dot.gov.

SUPPLEMENTARY INFORMATION: Effective July 1, 2007, the FHWA assigned, and Caltrans assumed, environmental responsibilities for this project pursuant to 23 U.S.C. 327. Caltrans as the assigned National Environmental Policy Act (NEPA) agency and CEQA lead agency, will prepare a joint EIR/EIS on a proposal for improvements along a portion of I-101 known as “Last Chance Grade” in Del Norte County, California.

Last Chance Grade is the 3.5-mile-long section of I-101 (post mile [PM] 12.0 to 15.5) that runs between Wilson Creek to about 9 miles south of Crescent City. The Project area is almost entirely within portions of Redwood National and State Parks.

The Project would realign the highway in response to landslide and roadway failures which have caused damage for decades. The purpose of the project is to:

• Provide a more reliable connection

• Reduce maintenance costs

• Protect the economy, natural resources, and cultural resources

A geologic study in 2000 conducted for Caltrans by the California Geological Survey mapped over 200 historical and active landslides (both deep-seated and shallow) within the corridor between Wilson Creek and Crescent City. Over the years, Caltrans has conducted a considerable number of construction projects and maintenance activities in the Last Chance Grade area to keep the roadway open. Since 1997, landslide mitigation efforts, including retaining walls, drainage improvements, and roadway repairs have cost over $85 million. A long-term sustainable solution at Last Chance Grade is needed to address:

• Economic ramifications of a long-term failure and closure

• Risk of delay/detour to traveling public

• Increasing maintenance and emergency project costs

• Increase in frequency and severity of large storm events caused by climate change

Over the past several years, Caltrans has considered multiple alignment alternatives with input from numerous project partners in seeking a long-term feasible and sustainable solution suitable for the unique geologic and natural features of the project area. As a result of these past alternatives screening processes, Caltrans has elected to move forward with the environmental review of two action alternatives, Alternatives X and F.

Alternative X would involve reengineering the existing roadway. Within a portion of Alternative X, the roadway would retreat inland (to the east) by approximately 130 feet to improve geotechnical stability and longevity. Alternative X would involve constructing a series of retaining walls (single and terraced) to minimize the potential for landslides on the roadway. Depending on feasibility, drainage improvements might also be included for this alternative.

Alternative F would construct an approximately 10,000-foot-long tunnel that would diverge from the existing roadway near PM 14.06 and reconnect to US 101 near PM 15.5, thereby avoiding the surface portion of existing roadway most prone to landslides and geologic instability.

The Draft EIR/EIS will also study a No Project Alternative, which would entail no new long-term feasible and sustainable solution for Last Chance Grade but would instead be a continuation of ongoing maintenance and repair activities needed to enable ongoing roadway operations.

Letters describing the proposed action and soliciting comments will be sent to appropriate Federal, State, Participating Agencies, Tribal governments, and local agencies, and to private organizations and citizens who have previously expressed or are known to have interest in this proposal. The Scoping period to submit comments is from November 5, 2021 to December 6, 2021. A public scoping meeting will be held virtually from 6:00 p.m. to 7:30 p.m. PST on November 18, 2021 from link at lastchancegrade.com. Comments on the NOI may be submitted by email: ScopingComments@lastchancegrade.com; or letter to 1656 Union Street, Eureka, CA 95501 with Attention to Steve Croteau, Senior Environmental Planner. In addition, a public hearing will be held once the Draft EIR/EIS is completed. Public notice will be given with the time and place of the meeting and hearing.

To ensure that the full range of issues related to this proposed action are addressed and all significant issues identified, comments and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Issued on: October 28, 2021.
Rodney Whitfield,
Director, Financial Services, Federal Highway Administration, California Division.

[FR Doc. 2021-23910 Filed 11-2-21; 8:45 am]

BILLING CODE 4910-RY-P